DEPARTMENT OF AGRICULTURE

Food Safety and Inspection Service

[Docket No. 05-028N]

Public Meeting on the Food Safety Institute of the Americas

AGENCY: Food Safety and Inspection Service, USDA.

ACTION: Notice.

SUMMARY: The Food Safety and Inspection Service (FSIS) is announcing that it will hold a public meeting on September 29-30, 2005, in Miami, Florida, to review and discuss the progress made by the Food Safety Institute of the Americas (FSIA). The FSIA was created as an innovative approach for integrating scientific food safety education, information, communication, and outreach in the Americas. During the public meeting, the following issues relating to the FSIA will be discussed: (1) Presentation of assessment and analysis of educational and informational needs identified through a survey administered by FSIA's partners, the University of Florida and Miami Dade College; (2) presentation of FSIA's 3-5 year Strategic Plan; (3) establishing strategies and best practices for developing and delivering programs identified through the needs survey; and (4) planning next steps for the FSIA in fostering collaboration and partnership development of the proposed FSIA colleges.

The public meeting will be an interactive session. Discussions will be conducted in plenary sessions for each of the above four issues.

DATES: The public meeting is scheduled for Thursday, September 29, 2005, from 9 a.m. to 6 p.m. and Friday, September 30, 2005, from 9 a.m. to 3 p.m. Comments on this notice must be received on or before September 19, 2005.

ADDRESSES: All FSIA meetings will take place at the Renaissance Eden Roc Hotel, 4525 Collins Avenue, Miami Beach, Florida 33140. Telephone number (305) 531-0000. In addition, a block of rooms has been held for participants at the Renaissance Eden Roc Hotel, 4525 Collins Avenue, Miami Beach, Florida 33140. Telephone number 1-800-327-8337. Participants in the FSIA meeting will receive a special rate of $99.00 (plus tax) per night. Reservations must be confirmed with the necessary credit card or payment information no later than September 14, 2005. Please reference the USDA-FSIA meeting when making reservations.

A meeting agenda is available on the Internet at http://www.fsis.usda.gov/News_&_Events/Meetings_&_Events which is a sub-Web site of the FSIS home page, at http://www.fsis.usda.gov/. The official transcript of the meeting, when it becomes available, will be available in FSIS Docket Room, Room 102, Cotton Annex, 300 12th Street, SW., Washington, DC 20250-3700.

FSIS welcomes comments on the topics to be discussed at the public meeting. Comments on these topics may be submitted by any of the following methods:

• Mail, including floppy disks or CD-ROM's, and hand- or courier-delivered items: Send to Food Safety Institute of the Americas, U.S. Department of Agriculture, Food Safety and Inspection Service, Claude Pepper Federal Building, 51 SW First Avenue, Suite 1321, Miami, Florida 33130.

• Electronic mail: FSInstituteoftheAmericas@fsis.usda.gov.

Comments on the meeting notice may be submitted by any of the following methods:

• Mail, including floppy disks or CD-ROM's, and hand- or courier-delivered items: Send to Docket Clerk, U.S. Department of Agriculture, Food Safety and Inspection Service, 300 12th Street, SW., Room 102 Cotton Annex, Washington, DC 20250.

• Electronic mail: fsis.regulationscomments@fsis.usda.gov.

All submissions received must include the Agency name and docket number 05-028N.

All comments on this notice and comments on the topics to be discussed at the public meeting will be available for public inspection in the FSIS Docket Room at the address listed above between 8:30 a.m. and 4:30 p.m., Monday through Friday. The comments also will be posted on the Agency's Web site at http://www.fsis.usda.gov/regulations_&_policies/2005_Notices_Index/index.asp.

Limited shared exhibit space will be available for participants to display applicable food safety, food security and defense-related educational and training material. Exhibitors are encouraged to notify FSIA, as early as possible, by calling the toll-free registration number listed below.

FOR FURTHER INFORMATION CONTACT: Linda Swacina, The Food Safety Institute of the Americas office at (305) 347-5552, linda.swacina@fsis.usda.gov or Stephen Hawkins, The Food Safety Institute of the Americas office at (305) 347-5552, stephen.hawkins@fsis.usda.gov or Richard Van Blargan, The Food Safety Institute of the Americas office at (305) 347-5552, richard.vanblargan@fsis.usda.gov for technical information.

All meeting participants will be required to register before entering the meeting. A pre-registration form is located at: http://www.fsis.usda.gov/News_&_Events/Meetings_&_Events.

You may also call in your registration using a special toll free number that has been established for the public meeting. To phone in registration, please call (Domestically (202) 205-0329 and TOLL FREE 1-877-239-2455).

Limited participant registration will be available the morning of September 29, 2005. Persons requiring a sign language interpreter or other special accommodations should notify the FSIA office no later than September 23, 2005, at the (305) 347-5552 or by e-mail FSInstituteoftheAmericas@fsis.usda.gov. English and Spanish translation services will be provided during meeting hours.

SUPPLEMENTARY INFORMATION:

Background

The explosive growth of the international food market has brought a variety of foods never before available to the consumer's table throughout the Americas. People can consume new products from different regions and enjoy traditional seasonal favorites throughout the year. Countries are now more dependent on each other's safeguards to guarantee their citizens a wholesome food supply and to protect the public health of their country and the region. The nations of the Americas make up a community committed to meeting the many challenges of ensuring food safety and security. One approach to these complex problems is for our countries to develop and effectively exchange scientific information and education on food safety and defense risks and on how to manage them.

The FSIA was formally established at an organizational meeting in October 2004, and is an innovative approach for harmonizing, developing, and distributing food safety and security information and education throughout the Americas; coordinating programs so that we concentrate on areas where our needs are the greatest; sharing resources on programs that already exist within our community; promoting the development of international food safety standards; and protecting ourselves as a region from food security threats. To accomplish these missions, the FSIA is in the process of developing and enlisting the support of existing networks among researchers, public health officials, regulatory officials, and food and animal producers and distributors. There are many academic, governmental and nongovernmental organizations with wide-ranging expertise that would make them potential partners in FSIA's endeavors.

FSIA Subject Areas or Colleges

In one scenario, the FSIA would establish the following nine colleges and include development and implementation of training, education, and information materials in these areas: (1) Codex Alimentarius; (2) Regulatory Foundation Studies; (3) Public Health Studies; (4) Food Security; (5) Manufactured Foods; (6) Animal and Food Production Studies; (7) Retail Programs; (8) Laboratory Studies; and (9) Consumer Education and Information Programs.

FSIA Benefits

The major goal of the FSIA is to improve and harmonize food safety education, information, and communication throughout the Americas in order to improve public health within each and among the countries of the region. It will provide major outreach activities to identify, develop, and coordinate educational programs and to promote the development of international food safety standards and common food protection and defense.

FSIA will provide the regions of the Americas with greater access to food safety information and the technical assistance necessary to ensure the safety of food products. In addition, FSIA will promote the activities of the Codex Alimentarius Commission to bring about standardization of food safety requirements and become a forum for scientific discussion relevant to food safety standards in the Americas. In this way, it will encourage and support development of science-based agreements that strengthen national and local economies.

Conclusion

The FSIA will help establish working relationships among collaborating countries through regular interaction of academic researchers and educators, government regulators, and food safety professionals. Enhancing and fostering these contacts are critically important in addressing regional food safety concerns and improving understanding about requirements for imported and exported products.

Additional Public Notification

Public awareness of all segments of rulemaking and policy development is important. Consequently, in an effort to ensure that the public and in particular minorities, women, and persons with disabilities, are aware of this notice, FSIS will announce it on-line through the FSIS Web page located at http://www.fsis.usda.gov/regulations/2005_Notices_Index/Index.asp. FSIS also will make copies of this Federal Register publication available through the FSIS Constituent Update, which is used to provide information regarding FSIS policies, procedures, regulations, Federal Register notices, FSIS public meetings, recalls, and other types of information that could affect or would be of interest to constituents and stakeholders. The update is communicated via Listserv, a free e-mail subscription service consisting of industry, trade, and farm groups, consumer interest groups, allied health professionals, scientific professionals, and other individuals who have requested to be included. The update also is available on the FSIS web page. Through Listserv and the web page, FSIS is able to provide information to a much broader, more diverse audience.

In addition, FSIS offers an electronic mail subscription service that provides an automatic and customized notification when popular pages are updated, including Federal Register publications and related documents. This service is available at http://www.fsis.usda.gov/news_and_events/email_subscription/ and allows FSIS customers to sign up for subscription options in eight categories. Options range from recalls to export information to regulations, directives and notices. Customers can add or delete subscriptions themselves and have the option to password protect their accounts.

Done at Washington, DC, on September 7, 2005.
Barbara J. Masters,
Administrator.

[FR Doc. 05-18030 Filed 9-7-05; 2:19 pm]

BILLING CODE 3410-DM-P